DEPARTMENT OF TRANSPORTATION

Federal Railroad Administration

[FRA-2014-0090]

Petition for Waiver of Compliance

In accordance with Part 211 of Title 49 Code of Federal Regulations (CFR), this document provides the public notice that by a document dated September 19, 2014, the Central States Steam Preservation Association (CSSPA) has petitioned the Federal Railroad Administration (FRA) for a waiver of compliance from certain provisions of the Federal railroad safety regulations contained at 49 CFR part 230, Steam Locomotive Inspection and Maintenance Standards. FRA assigned the petition Docket Number FRA-2014-0090. CSSPA is a nonprofit organization based in Iowa that maintains and operates two Chinese 2-10-2 steam locomotives, Numbers 6988 and 7081. CSSPA plans to operate the 6988 steam engine in 2015 on the Iowa Interstate Railroad (IAIS) and possibly other railroads in the Midwest. The engines are based on the IAIS in Newton, IA. The Railroad Development Corporation still maintains ownership of the two steam engines at this time, but plans to donate the engines to CSSPA in the near future.

CSSPA requests relief from performing the fifth annual inspection as it pertains to the inspection of flexible staybolt caps every 5 years, as required by 49 CFR 230.41(a), and requests to extend the inspection interval to the eighth annual inspection. CSSPA will perform all other inspections as required by 49 CFR 230.16, Annual Inspection. CSSPA's justification for requesting this relief is that the current level of safety would be maintained due to the low number of service days accrued in this engine since the last flexible staybolt cap inspection. There will be significant cost savings, as the CSSPA shop forces would not be required to remove the cab, piping, jacketing, and insulation to gain access to the caps to perform the flexible staybolt cap inspection.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 13, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on December 23, 2014.
Ron Hynes,
Director, Office of Technical Oversight.

[FR Doc. 2014-30465 Filed 12-29-14; 8:45 am]

BILLING CODE 4910-06-P